DEPARTMENT OF DEFENSE

Office of the Secretary of Defense

[DOD-2007-OS-0064]

Privacy Act of 1974; Systems of Records

AGENCY: Defense Finance and Accounting Service, DoD.

ACTION: Notice to add a system of records.

SUMMARY: the Defense Finance and Accounting Service (DFAS) is proposing to add a system of records notice to its inventory of record system subject to the Privacy Act of 1974, (5 U.S.C. 552a), as amended.

DATES: This action will be effective without further notice on July 13, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on June 6, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals” dated December 12, 2000, 65 FR 239.

Dated: June 6, 2007.
C.R. Choate,
Alternate OSD Federal Register Liaison Officer, Department of Defense.

T7205

System name:

General Accounting and Finance System, Report Database for Financial Statements.

System location:

Defense Information Systems Agency, Defense Enterprise Computing Center, 7879 Wardleigh Road, Hill Air Force Base, Ogden, UT 84056-5997.

Categories for individuals covered by the system:

United States Air Force (active duty, reserve, and guard members), Department of Defense civilian employees for the Defense Security Service, and the National Geospatial-Intelligence Agency.

Categories of records in the system:

Social Security Number (SSN) and General and Working Capital Funds transactions.

Authority for maintenance of the system:

5 U.S.C. 301, Departmental Regulations; DoD Directive 5118.5, Defense Finance and Accounting Service; 31 U.S.C. Sec. 3512 and 3513; and E.O. 9397 (SSN).

Purpose(s):

The system will enable the United States Air Force, Defense Security Service, and the National Geospatial-Intelligence Agency (NGA) to produce transaction-driven financial statements in support of Defense Finance and Accounting Service financial mission.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the United States Department of the Treasury to report the financial status of the General and Working Capital funds.

To the General Accounting Office for audit purposes.

The DoD ‘Blanket Routine Uses’ published at the beginning of the DoD compilation of systems of records notices apply to this system.

Policies and practices for storing, retrieving, accessing, retaining, and disposing of records in the system:

Storage:

Electronic storage media.

Retrievability:

Social Security Number (SSN) and transaction number.

Safeguards:

Access to records is limited to individuals who are properly screened and cleared on a need-to-know basis in the performance of their duties. Passwords and user identifications are used to control access to the system data, and procedures are in place to deter browsing and unauthorized access. Physical and electronic access are limited to persons responsible for servicing and authorized to use the system.

Retention and disposal:

Records are cut off at the end of the fiscal year, and destroyed in 6 years and 3 months after cutoff.

System manager(s) and address:

Defense Finance and Accounting Service—Denver, System Management Directorate, System Manager, Accounting and Cash Systems, 6760 E. Irvington Place, Denver, CO 80279-8000.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's name, Social Security Number (SSN), current address, and telephone number and provide a reasonable description of the records.

Record access procedures:

Individuals seeking access to information about themselves contained in this system of records should address written inquiries to Defense Finance and Accounting Service, Freedom of Information/Privacy Act Program Manager, Corporate Communications and Legislative Liaison, 6760 E. Irvington Place, Denver, CO 80279-8000.

Requests should contain individual's name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From individuals, DoD Components, such as, the United States Air Force, Defense Security Service, and National Geospatial-Intelligence Agency.

Exemptions claimed for the system:

None.

[FR Doc. 07-2922 Filed 6-12-07; 8:45 am]

BILLING CODE 5001-06-M